DEPARTMENT OF ENERGY

Federal Energy Regulatory Commission

[Project No. 10198-033]

City of Pelican, AK; Notice of Application Accepted for Filing and Soliciting Motions To Intervene and Protests

Take notice that the following hydroelectric application has been filed with the Commission and is available for public inspection.

a. Type of Application: New Minor License.¹

¹ The licensee filed an application for a subsequent license, but because the existing license did not include a waiver of sections 14 and 15 of the FPA, any license issued in response to this application will be a new license pursuant to 18 CFR 16.2(a).”

b. Project No.: 10198-033.

c. Date filed: September 16, 2024.

d. Applicant: City of Pelican.

e. Name of Project: Pelican Hydroelectric Project.

f. Location: The project is located on the Pelican Creek in the City of Pelican, Alaska. The project does not occupy federal land.

g. Filed Pursuant to: Federal Power Act 16 U.S.C. 791(a)-825(r).

h. Applicant Contact: Mayor Barry Bryant and City Administrator Susana Stinnett, City of Pelican, P.O. Box 737, Pelican, AK 99832; 907-735-2202; mayor@pelicancity.org or administrator@pelicancity.org.

i. FERC Contact: Ingrid Brofman, 202-502-8347, ingrid.brofman@ferc.gov.

j. Deadline for filing motions to intervene and protests: on or before 5:00 p.m. Eastern Time on February 17, 2025.

The Commission strongly encourages electronic filing. Please file comments, motions to intervene, and protests using the Commission's eFiling system at http://www.ferc.gov/docs-filing/efiling.asp. Commenters can submit brief comments up to 10,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Pelican Hydroelectric Project (P-10198-033).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted for filing but is not ready for environmental analysis at this time.

l. The Pelican Hydroelectric Project consists of the following existing facilities: (1) a 12-foot-wide by 22-foot-high rock-filled crib dam buttressed with steel A-frames impounding a reservoir with a net storage capacity of approximately 4.4 acre-feet at an elevation of 143 feet mean sea level; (2) a rectangular steel and concrete intake structure; (3) a 48-inch-diameter, 704-foot-long high density polyethylene pipe leading to a surge tank; (4) a 42-inch-diameter, 316-foot-long high density polyethylene penstock; (5) a powerhouse containing two generating units rated at 600 kW and 100 kW; (6) a 80-foot-long, 4.16-kilovolt transmission line; (7) a 480/4,160-volt, 0.75-megavolt-ampere step-up transformer; (8) a 500-foot-long access road; and (9) appurtenant facilities. The City of Pelican proposes to continue to operate the project in a run-of-river mode.

m. A copy of the application is available for review via the internet through the Commission's Home Page (http://www.ferc.gov), using the “eLibrary” link. Enter the docket number, excluding the last three digits in the docket number field, to access the document.

You may also register online at https://ferconline.ferc.gov/FERCOnline.aspx to be notified via email of new filings and issuances related to this or other pending projects. For assistance, contact FERC Online Support.

For public inquiries and assistance with making filings such as interventions, comments, or requests for rehearing, contact the Office of Public Participation at (202) 502-6595 or OPP@ferc.gov.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION

TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

When the application is ready for environmental analysis, the Commission will issue a public notice requesting comments, recommendations, terms and conditions, or prescriptions.

o. Procedural schedule: The application will be processed according to the following schedule. Revisions to the schedule will be made as appropriate.

Issue Scoping Document Notice | January 2026.
Issue Notice of Ready for Environmental Analysis | March 2026.

(Authority: 18 CFR 2.1)

Dated: December 19, 2025
Debbie-Anne A. Reese,
Secretary.

[FR Doc. 2025-23941 Filed 12-29-25; 8:45 am]

BILLING CODE 6717-01-P